FARM CREDIT ADMINISTRATION

Sunshine Act Meetings

Time and Date: 9:00 a.m., Thursday, March 10, 2022.

Place: You may physically, at 1501 Farm Credit Drive, McLean, Virginia 22102-5090, or virtually observe the open portions of this meeting. If you would like to observe, at least 24 hours in advance, visit FCA.gov, select “Newsroom,” and then select “Events.” From there, access the linked “Instructions for board meeting visitors” and complete the described registration process.

Status: Parts of this meeting will be open to the public. The rest of this meeting will be closed to the public.

Matters to be Considered: The Farm Credit Administration Board will consider the following matters:

Portions Open to the Public

• Approval of February 10, 2022, Minutes

• Spring 2022 Unified Agenda

• Funding Conditions for the Farm Credit System

Portions Closed to the Public

• Office of Secondary Market Oversight Periodic Report ¹

¹ Session Closed-Exempt to 5 U.S.C. Section 552b(c)(8) and (9).

Contact Person for More Information: If you need more information or assistance for accessibility reasons, or if you have questions, contact Ashley Waldron, Secretary to the Board. Telephone: 703-883-4009. TTY: 703-883-4056.

Ashley Waldron,
Secretary to the Board.

[FR Doc. 2022-04305 Filed 2-28-22; 11:15 am]

BILLING CODE 6705-01-P